DEPARTMENT OF HOMELAND SECURITY

Coast Guard

[Docket No. USCG-2012-1095]

U.S. Flag Compliance With MARPOL Annex VI International Energy Efficiency (IEE) Requirements

AGENCY: Coast Guard, DHS.

ACTION: Notice of International Standards.

SUMMARY: The Coast Guard announces that International Maritime Organization (IMO) Resolution MEPC.203(62) amended Annex VI to the International Convention for the Prevention of Pollution from Ships (MARPOL). On July 15, 2011, the IMO formally adopted Resolution MEPC.203(62), which entered into force on January 1, 2013, and amends MARPOL Annex VI by adding Chapter 4 and amending existing regulations in Annex VI. These amendments require the issuance of an International Energy Efficiency Certificate and the preparation of a Ship Energy Efficiency Management Plan for both new and existing ships. To obtain the certificate, (1) new ships, (2) new ships when they undergo a major conversion, and (3) existing ships that undergo a major conversion after January 1, 2013, so extensive that it is regarded as a newly constructed ship, must first have an Attained Energy Efficiency Design Index. These requirements apply to all U.S. flag ships 400 gross tonnage and above that engage in voyages to ports or offshore terminals under the jurisdiction of other Parties to MARPOL. The Coast Guard Office of Commercial Vessel Compliance has issued Policy Letter 13-02 to provide amplifying guidance on U.S. implementation of MARPOL Annex VI Chapter 4 and associated requirements.

DATES: The amendments in IMO Resolution MEPC.203(62) became effective on January 1, 2013. The requirements and implementation schedule for existing ships and new ships are provided below in the SUPPLEMENTARY INFORMATION section.

ADDRESSES: To view the documents mentioned in this notice, go to http://www.regulations.gov. In the “Search” box, insert “USCG-2012-1095” and click “Search.” If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: For information concerning this notice, contact Mr. Timothy Brown, U.S. Coast Guard, Commercial Vessel Compliance Division (CG-CVC-1), telephone 202-372-2358 or email CG-cvc-1@uscg.mil. If you have questions on viewing or submitting material to the docket, call Docket Operations at 202-366-9826.

SUPPLEMENTARY INFORMATION: The International Maritime Organization (IMO) established new MARPOL Annex VI requirements to improve the energy efficiency of ships. These new Annex VI standards were adopted on July 15, 2011, and are contained in IMO Resolution MEPC.203(62). The Act to Prevent Pollution from Ships (33 U.S.C. 1901, et. seq.) requires compliance with Annex VI, which now includes the new Annex VI energy efficiency requirements discussed below. The Coast Guard is currently developing regulations to facilitate compliance with the amendments in Resolution MEPC.203(62), which came into force for the U.S. on January 1, 2013. The lack of updated regulations does not exempt ships from meeting the requirements of the amended MARPOL Annex VI.

Effective as of January 1, 2013, IMO Resolution MEPC.203(62) amended MARPOL Annex VI and requires energy efficiency surveys and the issuance of an International Energy Efficiency (IEE) Certificate (Annex VI, Regs. 5.4 & 6.4), in addition to the preparation of a Ship Energy Efficiency Management Plan (SEEMP) for both new and existing ships (Annex VI, Reg. 22). Additionally, IMO Resolution MEPC.203(62) adds new Chapter 4 to Annex VI, establishing a set of efficiency performance standards intended to reduce air pollution emissions from ships burning fuel oil, including distillate and residual fuels, for purposes of propulsion or operation on board a ship. Also, new Annex VI Regulations 20 and 21 require an Energy Efficiency Design Index (EEDI) for (1) new ships, (2) new ships when they undergo a major conversion, and (3) existing ships that undergo a major conversion after January 1, 2013, so extensive that it is regarded as a newly constructed ship (see definition of “major conversion” in Regulation 2(24)). Regulations 5 and 6 make mandatory for new ships to which Chapter 4 of MARPOL Annex VI applies, the preparation of and issuance of an IEE Certificate which includes a Supplement. The Coast Guard or a recognized classification society (RCS) would issue the IEE Certificate.

New Regulation 6.4 requires the issuance of an IEE Certificate to ships 400 gross tonnage and above that have been surveyed in accordance with the provisions of Regulation 5.4. The tonnage referenced here is gross tonnage measured in accordance with the tonnage measurement regulations contained in Annex I to the International Convention on Tonnage Measurements of Ships, 1969 or any successor Convention (GT ITC) (see Regulation 2.10). Regulation 6.4 also specifies that such ships not engage in voyages to ports or offshore terminals under the jurisdiction of other countries that are Parties to MARPOL before they obtain an IEE Certificate. For existing ships, the verification of the requirement to have a SEEMP on board according to new Regulation 22 will take place at the first intermediate or renewal International Air Pollution Prevention (IAPP) Certificate survey, whichever is first, on or after January 1, 2013. The SEEMP itself does not have to be approved by the Coast Guard or a RCS, but must follow the guidelines for preparation of a SEEMP in IMO Resolution MEPC.213(63) (see Regulation 22.2 and 33 U.S.C. 1908). RCSs will issue IEE Certificates to existing ships to which the RCS also issued an International Air Pollution Prevention (IAPP) Certificate after completion of the required surveys. All new ships as defined in Annex VI Regulation 2 should make arrangements with an RCS to complete the requirements for IEE Certificate issuance. Existing ships that received their IAPP Certificate from the Coast Guard should contact the cognizant Officer in Charge, Marine Inspection (OCMI) to obtain their IEE Certificate. Once issued, the IEE Certificate is valid for the life of the ship unless the ship is withdrawn from service, a new certificate is issued following a “major conversion” as defined in Annex VI Regulation 2, or the ship is transferred to the flag of another State (see Regulations 9.10 and 9.11).

The term “new ship” means a ship for which the building contract is placed on or after January 1, 2013; or in the absence of a building contract, the keel of which is laid or which is at a similar stage of construction on or after July 1, 2013; or the delivery of which is on or after July 1, 2015 (see Regulation 2.23). The requirements for new ships also apply to ships that undergo a major conversion as defined in Annex VI Regulation 2. In addition to a SEEMP (Regulation 22), new ships and those that have undergone a major conversion must have an Attained Energy Efficiency Design Index (EEDI) (see Regulation 20). IMO Resolution MEPC.212(63) provides guidance to ship owners and designers regarding the calculation of the EEDI. An EEDI technical file should be prepared during the design of the ship and submitted to the Coast Guard or RCS for preliminary verification along with the rest of the ship's drawings and particulars during the existing plan approval process. Final verification of the EEDI technical file is conducted following RCS surveyor observance of a sea trial.

IMO Resolution MEPC.214(63) provides survey and certification guidelines. If the results of the sea trial are inconsistent with the preliminary contents of the EEDI technical file, the ship owner or designer may be required to revise the EEDI technical file prior to issuance of the IEE Certificate. Following the final verification of the EEDI technical file a Record of Construction Relating to Energy Efficiency (Supplement to the IEE Certificate) and IEE Certificate will be issued.

On December 10, 2012, the Coast Guard published a final rule to amend 46 CFR 8.320. That rule, which became effective January 9, 2013, permits classification societies to apply to issue IEE Certificates on behalf of the Coast Guard (see 77 FR 73334, Dec. 10, 2012). We anticipate that classification societies that applied to issue IAPP Certificates will also apply to issue IEE Certificates. Because the Coast Guard has authorized RCSs to issue the Record of Construction Relating to Energy Efficiency (Supplement to the IEE Certificate), EEDI review and approval will not be completed directly by the Coast Guard (see 77 FR 73334, Dec. 10, 2012).

Annex VI exempts ships using diesel-electric, turbine or hybrid propulsion systems from the requirements to prepare an EEDI technical file and obtain an IEE Supplement regardless of build date. In addition, the Coast Guard may waive the requirements for new ships to prepare an EEDI technical file and obtain an IEE Supplement in certain cases described in Annex VI Regulation 19. Ship operator requests for waivers should be directed to the appropriate Officer in Charge, Marine Inspection; those requests will then be routed through the District Commander to CG-CVC-1 for approval. RCSs should submit requests for waivers directly to CG-CVC-1.

Authority

This notice is issued under the authority of 5 U.S.C. 552(a), 33 U.S.C. 1901(a)(5), 1903, and 1907(a).

Dated: May 5, 2013.
Paul F. Thomas,
Captain, U.S. Coast Guard, Director, Inspections and Compliance.

[FR Doc. 2013-11232 Filed 5-10-13; 8:45 am]

BILLING CODE 9110-04-P